DEPARTMENT OF TRANSPORTATION

Federal Aviation Administration

14 CFR Part 97

[Docket No. 30916; Amdt. No. 3551]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 5, 2013. The compliance date for each SIAP, associated Takeoff Minimums, and ODP is specified in the amendatory provisions. The incorporation by reference of certain publications listed in the regulations is approved by the Director of the Federal Register as of September 5, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on August 16, 2013.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 19 SEPTEMBER 2013

Montgomery, AL, Montgomery Rgnl (Dannelly Field), ILS OR LOC RWY 10, Amdt 23G

Montgomery, AL, Montgomery Rgnl (Dannelly Field), ILS Y OR LOC RWY 28, Amdt 11

Montgomery, AL, Montgomery Rgnl (Dannelly Field), ILS Z RWY 28, Orig

Montgomery, AL, Montgomery Rgnl (Dannelly Field), RNAV (GPS) RWY 10, Amdt 1A

Montgomery, AL, Montgomery Rgnl (Dannelly Field), RNAV (GPS) RWY 28, Amdt 1A

San Diego, CA, Brown Field Muni, RNAV (GPS) RWY 8L, Amdt 1

Torrance, CA, Zamperini Field, RNAV (GPS) RWY 29R, Orig-A

Upland, CA, Cable, RNAV (GPS) RWY 6, Amdt 1

Fernandina Beach, FL, Fernandina Beach Muni, RNAV (GPS) RWY 13, Amdt 2

Fernandina Beach, FL, Fernandina Beach Muni, RNAV (GPS) RWY 22, Amdt 1

Fernandina Beach, FL, Fernandina Beach Muni, Takeoff Minimums and Obstacle DP, Amdt 1

Jacksonville, FL, Cecil, TACAN RWY 9R, Orig

Jacksonville, FL, Cecil, TACAN RWY 27L, Orig

Key West, FL, Key West Intl, RADAR 1, Amdt 5

Lakeland, FL, Lakeland Linder Rgnl, Takeoff Minimums and Obstacle DP, Amdt 1

Venice, FL, Venice Muni, RNAV (GPS) RWY 5, Orig

Venice, FL, Venice Muni, RNAV (GPS) RWY 23, Orig

Venice, FL, Venice Muni, Takeoff Minimums and Obstacle DP, Amdt 3

Atlanta, GA, Hartsfield-Jackson Atlanta Intl, ILS OR LOC RWY 8L, ILS RWY 8L (SA CAT I), ILS RWY 8L (CAT II), ILS RWY 8L (CAT III), Amdt 4B

Atlanta, GA, Hartsfield-Jackson Atlanta Intl, ILS OR LOC RWY 28, ILS RWY 28 (SA CAT I), ILS RWY 28 (CAT II), Amdt 3A

Atlanta, GA, Hartsfield-Jackson Atlanta Intl, ILS PRM RWY 8L, ILS PRM RWY 8L (SA CAT I), ILS PRM RWY 8L (CAT II), ILS PRM RWY 8L (CAT III) (SIMULTANEOUS CLOSE PARALLEL), Amdt 1B

Atlanta, GA, Hartsfield-Jackson Atlanta Intl, ILS PRM RWY 28, ILS PRM RWY 28 (SA CAT I), ILS PRM RWY 28 (CAT II) (SIMULTANEOUS CLOSE PARALLEL), Amdt 3B

Atlanta, GA, Hartsfield-Jackson Atlanta Intl, RNAV (GPS) Y RWY 8L, Amdt 3A

Atlanta, GA, Hartsfield-Jackson Atlanta Intl, RNAV (GPS) Y RWY 28, Amdt 3A

Atlanta, GA, Hartsfield-Jackson Atlanta Intl, RNAV (RNP) Z RWY 8L, Amdt 1A

Atlanta, GA, Hartsfield-Jackson Atlanta Intl, RNAV (RNP) Z RWY 28, Amdt 2A

Sioux City, IA, Sioux Gateway/Col. Bud Day Field, RNAV (GPS) RWY 17, Orig-C

Robinson, IL, Crawford Co, NDB RWY 17, Amdt 8

Indianapolis, IN, Indianapolis Rgnl, RNAV (GPS) RWY 16, Amdt 1

Indianapolis, IN, Indianapolis Rgnl, RNAV (GPS) RWY 34, Amdt 1

Kokomo, IN, Kokomo Muni, RNAV (GPS) RWY 14, Orig

Kokomo, IN, Kokomo Muni, RNAV (GPS) RWY 32, Orig

Mount Sterling, KY, Mount Sterling-Montgomery County, GPS RWY 21, Amdt 1B, CANCELED

Mount Sterling, KY, Mount Sterling-Montgomery County, NDB RWY 3, Amdt 2

Mount Sterling, KY, Mount Sterling-Montgomery County, NDB RWY 21, Amdt 2

Mount Sterling, KY, Mount Sterling-Montgomery County, RNAV (GPS) RWY 3, Orig

Mount Sterling, KY, Mount Sterling-Montgomery County, RNAV (GPS) RWY 21, Orig

Russellville, KY, Russellville-Logan County, RNAV (GPS) RWY 24, Orig

Russellville, KY, Russellville-Logan County, Takeoff Minimums and Obstacle DP, Amdt 3

Russellville, KY, Russellville-Logan County, VOR/DME RWY 24, Amdt 7

Vineyard Haven, MA, Marthas Vineyard, RNAV (GPS) RWY 15, Orig-A

Grand Ledge, MI, Abrams Muni, RNAV (GPS) RWY 9, Orig

Hancock, MI, Houghton County Memorial, RNAV (GPS) RWY 25, Amdt 1

Menominee, MI, Menominee-Marinette Twin County, RNAV (GPS) RWY 32, Amdt 1

Columbia, MS, Columbia-Marion County, RNAV (GPS) RWY 5, Orig

Columbia, MS, Columbia-Marion County, RNAV (GPS) RWY 23, Amdt 1

Jackson, MS, Jackson-Medgar Wiley Evers International, Takeoff Minimums and Obstacle DP, Amdt 2

Raymond, MS, John Bell Williams, RNAV (GPS) RWY 30, Amdt 3A

Akron, NY, Akron, RNAV (GPS) RWY 7, Amdt 2

Akron, NY, Akron, RNAV (GPS) RWY 25, Amdt 2

Lebanon, OH, Warren County/John Lane Field, RNAV (GPS) RWY 1, Amdt 2

Lebanon, OH, Warren County/John Lane Field, RNAV (GPS) RWY 19, Amdt 3

Bellefonte, PA, Bellefonte, RNAV (GPS) RWY 7, Orig

Bellefonte, PA, Bellefonte, RNAV (GPS) RWY 25, Orig

Bellefonte, PA, Bellefonte, Takeoff Minimums and Obstacle DP, Amdt 1

Bellefonte, PA, Bellefonte, VOR-A, Amdt 2

Allendale, SC, Allendale County, GPS RWY 17, Orig-C, CANCELED

Allendale, SC, Allendale County, GPS RWY 35, Amdt 1B, CANCELED

Allendale, SC, Allendale County, RNAV (GPS) RWY 17, Orig

Allendale, SC, Allendale County, RNAV (GPS) RWY 35, Orig

Allendale, SC, Allendale County, Takeoff Minimums and Obstacle DP, Amdt 1

Sioux Falls, SD, Joe Foss Field, ILS OR LOC RWY 3, Amdt 27E

Sioux Falls, SD, Joe Foss Field, RNAV (GPS) RWY 3, Amdt 1A

Sioux Falls, SD, Joe Foss Field, RNAV (GPS) RWY 15, Orig-E

Sioux Falls, SD, Joe Foss Field, RNAV (GPS) RWY 21, Amdt 1A

Sioux Falls, SD, Joe Foss Field, RNAV (GPS) RWY 33, Orig-D

Fort Worth, TX, Bourland Field, RNAV (GPS) RWY 35, Amdt 1

Fort Worth, TX, Bourland Field, Takeoff Minimums and Obstacle DP, Amdt 1

San Antonio, TX, San Antonio Intl, RNAV (RNP) Z RWY 12R, Orig-A

Wallops Island, VA, Wallops Flight Facility, RNAV (GPS) RWY 4, Amdt 1

Wallops Island, VA, Wallops Flight Facility, RNAV (GPS) RWY 10, Amdt 1

Wallops Island, VA, Wallops Flight Facility, RNAV (GPS) RWY 17, Amdt 1

Wallops Island, VA, Wallops Flight Facility, RNAV (GPS) RWY 22, Amdt 1

Wallops Island, VA, Wallops Flight Facility, RNAV (GPS) RWY 28, Amdt 1

Wallops Island, VA, Wallops Flight Facility, RNAV (GPS) RWY 35, Orig

Wallops Island, VA, Wallops Flight Facility, VOR/DME OR TACAN RWY 10, Amdt 6

Wallops Island, VA, Wallops Flight Facility, VOR OR TACAN RWY 17, Amdt 7

Amery, WI, Amery Muni, RNAV (GPS) RWY 18, Amdt 1

Amery, WI, Amery Muni, RNAV (GPS) RWY 36, Amdt 1

Burlington, WI, Burlington Muni, RNAV (GPS) RWY 11, Orig

Burlington, WI, Burlington Muni, RNAV (GPS) RWY 29, Amdt 1

Burlington, WI, Burlington Muni, Takeoff Minimums and Obstacle DP, Amdt 3

Burlington, WI, Burlington Muni, VOR-A, Amdt 2

Effective 17 OCTOBER 2013

Maryville, MO, Northwest Missouri Rgnl, Takeoff Minimums and Obstacle DP, Amdt 4

[FR Doc. 2013-21282 Filed 9-4-13; 8:45 am]

BILLING CODE 4910-13-P